DEPARTMENT OF DEFENSE

Department of the Army

Privacy Act of 1974; System of Records

AGENCY: Department of the Army, DoD.

ACTION: Notice to amend systems of records.

SUMMARY: The Department of the Army is amending three systems of records notices in its existing inventory of records systems subject to the Privacy Act of 1974, (5 U.S.C. 552a), as amended.

DATES: This proposed action will be effective without further notice on August 27, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records systems being amended are set forth below followed by the notice, as amended, published in there entirety. The proposed amendments are not within the purview of subsection (r) of the Privacy Act of 1974, (5 U.S.C. 552a), as amended, which requires the submission of a new or altered system report.

Dated: July 19, 2001.
L.M. Bynum,
Alternate OSD Federal Register Liaison Officer, Department of Defense.

A0215-2b CFSC

System Name:

Commercial Entertainment Transaction Records (February 22, 1993, 58 FR 10002).

Changes:

* * * * *

Authority for maintenance of the system:

Delete entry and replace with ‘10 U.S.C. 3013, Secretary of the Army; Army Regulation 215-1, Moral Welfare, and Recreation Activities and Non appropriated Fund Instrumentalities; and E.O. 9397 (SSN).”

* * * * *

Retention and Disposal:

Delete entry and replace with ‘Offices having Army-wide responsibility maintain records for 10 years then destroy. Offices not having Army-wide responsibility destroy after 2 years.’

* * * * *

A0215-2b CFSC

System Name:

Commercial Entertainment Transaction Records.

System Location:

Installation and area clubs; other membership associations, non-appropriated fund activities and instrumentalities; Armed Forces recreation centers throughout the Army; United States Army Europe and Korea commercial/entertainment offices. Address may be obtained from the Commander, U.S. Army Community and Family Support Center, 2461 Eisenhower Avenue, Alexandria, VA 22331-0500.

Categories of individuals covered by the system:

Individual performers, members of entertainment groups or their agents who may be members of the United States Forces and/or their dependents, civilian components of U.S. Forces and/or their dependents, and other U.S. citizens or foreign nationals.

Categories of Records in the System:

File contains name of individual or group, Social Security Number of individual, type of entertainment, passport number, nationality, location of performances, agent code, performance/band information, fees charged, payment records, individual contract number, performance information and date, and code of the non-appropriated fund activity.

Authority for Maintenance of the System:

10 U.S.C. 3013, Secretary of the Army; Army Regulation 215-1, Moral Welfare, and Recreation Activities and Non-appropriated Fund Instrumentalities; and E.O. 9397 (SSN).

Purpose(s):

To register individual/group entertainers appearing at non-appropriated fund activities or instrumentalities, clubs, associations or recreation centers; to issue pay and supporting documents incident to contract for such entertainers; to account for monies of open messes and clubs for entertainment purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders; punch cards, magnetic tapes and discs, and computer printouts.

Retrievability:

By Social Security Number, agent code or band code.

Safeguards:

Buildings housing records employ security guards. Paper files, computer cards, and printouts are stored in areas accessible only to authorized personnel; offices and buildings are locked during non-duty hours. Access to computer is limited to individuals who are properly cleared and trained.

Retention and Disposal:

Offices having Army-wide responsibility maintain records for 10 years then destroy. Offices not having Army-wide responsibility destroy after 2 years.

System Manager(s) and Address:

Commander, U.S. Army Community and Family Support Center, Summit, 4700 King Street, Alexandria, VA 22331-0500.

Notification Procedure:

Individuals seeking to determine whether information about themselves is contained in this system should address written inquiries to the Commander, U.S. Army Community and Family Support Center, Summit, 4700 King Street, Alexandria, VA 22331-0500.

Individual should provide full name of the individual, agent code (if applicable), Social Security Number and/or passport number, and the time period and performance date involved.

Record Access Procedures:

Individuals seeking access to information about themselves contained in this system should address written inquiries to the Commander, U.S. Army Community and Family Support Center, Summit, 4700 King Street, Alexandria, VA 22331-0500.

Individual should provide full name of the individual, agent code (if applicable), Social Security Number and/or passport number, and the time period and performance date involved.

Contesting Record Procedures:

The Army's rules for accessing records, and for contesting contents and appealing initial agency determinations are contained in Army Regulation 340-21; 32 CFR part 505; or may be obtained from the system manager.

Record Source Categories:

From the individual entertainer and agent.

Exemptions Claimed for the System:

None.

A0600-8a TAPC

System Name:

Major Command Military Personnel Management Reporting System (December 23, 1997, 62 FR 67055).

Changes:

System Identifier:

Delete entry and replace with ‘A0600-8aDAPE’.

System Location:

Delete entry and replace with ‘Decentralized to each major Army command. Official mailing addresses are published as an appendix to the Army’s compilation of record systems notices.”

* * * * *

Storage:

Delete entry and replace with ‘Microfiche, printouts and electronic storage media.”

Retrievability:

Delete entry and replace with ‘By Social Security Number, name, MOS and grade.”

* * * * *

Retention and Disposal:

Delete entry and replace with ‘Offices having Army-wide responsibility: Cut off annually, hold for 1 year in current file area, retire to Washington National Records Center, 4205 Suitland Road, Suitland, MD 20746-8001, destroy 25 years after cutoff. Reporting organizations and strength monitors at installations and major commands destroy after 2 years; offices not within the above categories destroy when no longer needed for current operations.”

* * * * *

A0600-8aDAPE

System Name:

Major Command Military Personnel Management Reporting System.

System Location:

Decentralized to each major Army command. Official mailing addresses are published as an appendix to the Army’s compilation of record systems notices.

Categories of individuals covered by the system:

Active duty commissioned officers, warrant officers and enlisted personnel assigned or projected for assignment to the major command.

Categories of Records in the System:

Name, Social Security Number, sex, race; marital status and dependents; physical category code; component; expiration of term of service; additional pay; date of rank; annual efficiency index; last overseas short tour, procurement actions; unit identification code; Department of Army location, assignment and status codes; permanent change of station date; date joined/departed current command; gaining unit, location, assignment and status codes; reporting date; date returned from overseas; previous unit identification code, assignment and type transfer strength; primary and secondary military occupational specialties (MOS), secondary MOS evaluation score; duty MOS; away without leave data; date agreements and related documents forms, and correspondence.

Authority for Maintenance of the System:

10 U.S.C. 3013, Secretary of the Army; Army Regulation 600-8-6, Personnel Accounting and Strength Reporting; Army Regulation 600-8, Military Personnel Management; and E.O. 9397 (SSN).

Purpose(s):

This system extracts data from Officer and Enlisted Personnel Files and records related to organizations, personnel authorized and assigned strength and prepares reports designed to aid major Army commanders in managing military personnel functions.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Policies and practices for storing, retrieving, accessing, retaining, and disposing of records in the system:

Storage:

Microfiche, printouts and electronic storage media.

Retrievability:

By Social Security Number, name, MOS and grade.

Safeguards:

Records are protected by physical security devices, computer hardware and software safeguard features, and personnel clearances for individuals working with the system.

Retention and Disposal:

Offices having Army-wide responsibility: Cut off annually, hold for 1 year in current file area, retire to Washington National Records Center, 4205 Suitland Road, Suitland, MD 20746-8001, destroy 25 years after cutoff. Reporting organizations and strength monitors at installations and major commands destroy after 2 years; offices not within the above categories destroy when no longer needed for current operations.

System Manager(s) and Address:

Commander, U.S. Total Army Personnel Command, 200 Stovall Street, Alexandria, VA 22332-0400.

Notification Procedure:

Individuals seeking to determine whether information about themselves is contained in this system should address written inquiries to the commander of the major command where assigned or attached.

Individual should provide the full name, Social Security Number, current address, and sufficient details to permit locating pertinent records.

Record Access Procedures:

Individuals seeking access to information about themselves contained in this system should address written to the commander of the major command where assigned or attached.

Individual should provide the full name, Social Security Number, current address, and sufficient details to permit locating pertinent records.

Contesting Record Procedures:

The Army's rules for accessing records, and for contesting contents and appealing initial agency determinations are contained in Army Regulation 340-21; 32 CFR part 505; or may be obtained from the system manager.

Record Source Categories:

From automated systems interfaces based on the Headquarters, Department of Army data base.

Exemptions Claimed for the System:

None.

A0715 DAJA

System Name:

Procurement Misconduct Files (February 22, 1993, 58 FR 10002).

Changes:

* * * * *

System Location:

Delete entry and replace with ‘United States Army Legal Services Agency, Procurement Fraud Division, 901 North Stuart Street, Arlington, VA 22203-1837.'

Authority for Maintenance of the System:

Delete entry and replace with ‘10 U.S.C. 3013, Secretary of the Army; 48 CFR Chapter 2, Defense Federal Acquisition Regulations; Federal Acquisition Regulations 9.406-3; DoD Directive 7050.5, Coordination of Remedies for Fraud and Corruption Related to Procurement Activities; Army Regulation 27-40, Chapter 8, Litigation, Remedies in Procurement Fraud and Corruption; and E.O. 9397 (SSN).'

* * * * *

Storage:

Delete entry and replace with ‘Paper records in file folders and electronic storage database.’

Retrievability:

Delete entry and replace with ‘By Social Security Number, names and procurement fraud case number.’

* * * * *

Retention and Disposal:

Delete entry and replace with ‘United States Army Legal Services Agency, Office of The Judge Advocate General and Headquarters, United States Army Corps of Engineers civil work cases, destroy after 30 years. Except those cases heard by the Supreme Court or designated by the Judge Advocate General or Headquarters, United States Corps of Engineers Chief Counsel as significant which are permanent, cut off on completion of litigation. United States Army Legal Services Agency, Office of The Judge Advocate General and Headquarters United States Army Corps of Engineers cases not involving litigation, destroy 10 years after date of incident. Procurement misconduct files are maintained for 30 years after final determination then destroyed.’

* * * * *

A0715 DAJA

System Name:

Procurement Misconduct Files.

System Location:

United States Army Legal Services Agency, Procurement Fraud Division, 901 North Stuart Street, Arlington, VA 22203-1837.

Categories of Individuals Covered by the System:

Individuals or legal entities investigated for alleged procurement misconduct, such as fraudulent activities in securing or performing a government contract.

Categories of Records in the System:

Criminal and administrative investigations of fraudulent, criminal or other misconduct in connection with government procurement activities and the List of Parties Excluded from Procurement Programs.

Authority for Maintenance of the System:

10 U.S.C. 3013, Secretary of the Army; 48 CFR Chapter 2, Defense Federal Acquisition Regulations; Federal Acquisition Regulations 9.406-3; DoD Directive 7050.5, Coordination of Remedies for Fraud and Corruption Related to Procurement Activities; Army Regulation 27-40, Chapter 8, Litigation, Remedies in Procurement Fraud and Corruption; and E.O. 9397 (SSN).

Purpose(s):

To determine whether criminal, administrative, or civil proceedings should be initiated against the contractor with the government or government procurement officials for criminal conduct in connection with procurement activities and to maintain and distribute a list of contractors determined to be ineligible to participate in Government procurement activities.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to the Department of Justice and United States attorneys.

The DoD ‘Blanket Routine Uses’ set forth at the beginning of the Army's compilation of systems of records notices also apply to this system.

Policies and practices for storing, retrieving, accessing, retaining, and disposing of records in the system:

Storage:

Paper records in file folders and electronic storage database.

Retrievability:

By Social Security Number, names and procurement fraud case number.

Safeguards:

Records are maintained in file cabinets accessible only by authorized personnel who are properly instructed in the permissible use of the information in the performance of their duties.

Retention and Disposal:

United States Army Legal Services Agency, Office of The Judge Advocate General and Headquarters, United States Army Corps of Engineers civil work cases, destroy after 30 years. Except those cases heard by the Supreme Court or designated by the Judge Advocate General or Headquarters, United States Corps of Engineers Chief Counsel as significant which are permanent, cut off on completion of litigation. United States Army Legal Services Agency, Office of The Judge Advocate General and Headquarters United States Army Corps of Engineers cases not involving litigation, destroy 10 years after date of incident. Procurement misconduct files are maintained for 30 years after final determination then destroyed.

System Manager(s) and Address:

United States Army Legal Services Agency, Chief Procurement Fraud Division, 901 North Stuart Street, Arlington, VA 22203-1837.

Notification Procedure:

Individuals seeking to determine whether information about themselves is contained in this system should address inquiries to the Office of the United States Army Legal Services Agency, Chief Procurement Fraud Division, 901 North Stuart Street, Arlington, VA 22203-1837.

Individual should provide full name, current address and telephone number, specific details that will enable locating the record, and signature.

Record Access Procedures:

Individuals seeking access to information about themselves contained in this system should address inquiries to the United States Army Legal Services Agency, Chief Procurement Fraud Division, 901 North Stuart Street, Arlington, VA 22203-1837.

Individual should provide full name, current address and telephone number, specific details that will enable locating the record, and signature.

Contesting Record Procedures:

The Army's rules for accessing records, and for contesting contents and appealing initial agency determinations are contained in Army Regulation 340-21; 32 CFR part 505; or may be obtained from the system manager.

Record Source Categories:

Department of the Army staff agencies, Army records and reports, Department of Justice, U.S. Attorneys, opposing counsel, and similar relevant sources.

Exemptions Claimed for the System:

None.

[FR Doc. 01-18605 Filed 7-25-01; 8:45 am]

BILLING CODE 5001-08-U